DEPARTMENT OF AGRICULTURE

Animal and Plant Health Inspection Service

9 CFR Part 77

[Docket No. 99-092-2]

Tuberculosis in Cattle, Bison, and Captive Cervids; State and Zone Designations

AGENCY: Animal and Plant Health Inspection Service, USDA.

ACTION: Affirmation of interim rule as final rule.

SUMMARY: We are adopting as a final rule, without change, an interim rule that amended the bovine tuberculosis regulations to recognize two separate zones with different tuberculosis risk classifications in the State of Texas. The interim rule was necessary to prevent the spread of tuberculosis and to further the progress of the domestic bovine tuberculosis eradication program.

EFFECTIVE DATE: The interim rule became effective on November 22, 2000.

FOR FURTHER INFORMATION CONTACT: Dr. Joseph Van Tiem, Senior Staff Veterinarian, National Animal Health Programs, VS, APHIS, USDA, 4700 River Road Unit 43, Riverdale, MD 20737-1231; (301) 734-7716.

SUPPLEMENTARY INFORMATION:

Background

In an interim rule effective and published in the Federal Register on November 22, 2000 (65 FR 70284-70286, Docket No. 99-092-1), we amended the bovine tuberculosis regulations in 9 CFR part 77 by recognizing two separate zones with different tuberculosis risk classifications in the State of Texas. That action was necessary to prevent the spread of tuberculosis and to further the progress of the domestic bovine tuberculosis eradication program.

Comments on the interim rule were required to be received on or before January 22, 2001. We received one comment by that date, from a veterinary medical association. The commenter supported the interim rule.

Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived the review process required by Executive Order 12866.

Lists of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 65 FR 70284-70286 on November 22, 2000.

Authority: 21 U.S.C. 111, 114, 114a, 115-117, 120, 121, 134b and 134f; 7 CFR 2.22, 2.80, and 371.4.

Done in Washington, DC, this 21st day of September 2001.
Bobby R. Acord,
Acting Administrator, Animal and Plant Health Inspection Service.

[FR Doc. 01-24191 Filed 9-26-01; 8:45 am]

BILLING CODE 3410-34-P